Proclamation 10534 of March 21, 2023

Establishment of the Castner Range National Monument

By the President of the United States of America

A Proclamation

Each year, as winter gives way to spring, Mexican Gold Poppies burst into bloom, transforming the undeveloped desert plains and hills of Castner Range into a sea of vibrant yellows, oranges, and reds framed by the rugged mountains and azure blue sky. Visitors from across the Nation come to witness this natural wonder, and families from local communities gather to mark quinceañeras, weddings, and other special occasions with this colorful tableau as backdrop. Located on Fort Bliss near the heart of El Paso, Texas, Castner Range—stretching from the heights of the Franklin Mountains, eastward across canyons and arroyos, and descending to lower elevation plains of the Chihuahuan Desert—serves as a testament to the modernization of the American military and the military service members who trained there from 1926 to 1966. In addition to containing evidence of Castner Range's important historical role in our Nation's national defense, Castner Range hosts significant archeological sites documenting the history of the Tribal Nations that inhabited the area since time immemorial, rare plant and animal habitat, and unique geological features. Once it is safe for public access following remediation of military munitions and munitions constituents, Castner Range will become a natural classroom offering unique opportunities to experience, explore, and learn from nature in a unique setting that is close to a major urban center. Access to nature is particularly important for underserved communities, like those bordering Castner Range, that have historically had less access to our public lands. Castner Range will also provide opportunities for important research on archeological sites, plant and animal communities, and geological features in areas that have been inaccessible for many decades.

The Department of the Army acquired Castner Range in the 1920s and 1930s, and with the establishment of an Anti-Aircraft Training Center in 1940, Castner Range—and Fort Bliss more broadly—became the largest overland air defense missile range and training center in the world. In 1945, Fort Bliss became home to the 1st Anti-aircraft Guided Missile Battalion, the first missile battalion in Army history. In 1948, the Army established the 1st Guided Missile Regiment at Fort Bliss, which later became the 1st Guided Missile Brigade. This unique component trained at Castner Range and provided skills to the Army as it transitioned into the era of modern guided-missile warfare. In the 1960s, a training area known as the “Vietnam Village” was constructed and used for close combat exercises, but military training on Castner Range largely ended in 1966. As a result of the cessation of military activities, much of this rugged landscape has since been reclaimed by nature.

Archeologists have identified 41 archeological sites within Castner Range despite access restrictions due to remaining munitions in the area. Some of these sites are culturally important to Tribal Nations and Indigenous Peoples—including Apache and Pueblo peoples and the Comanche Nation, Hopi Tribe, and Kiowa Indian Tribe of Oklahoma—and provide evidence of Indigenous Peoples' presence in the area from at least 6,000 B.C. Three of those sites—the Fusselman Canyon Rock Art District, the Northgate Site, and the Castner Range Archeological District—are listed in the National Register of Historic Places.

Within Castner Range, there is a site that contains rock art from around 1350 A.D. depicting animal footprints, geometric designs, a human handprint, and a bird's head. Pottery and arrow shaft straighteners have also been found in the area. Another site includes several rock shelters, a shallow cave, bedrock mortars, and rock art, which is visible on the overhangs and undersides of fallen and stacked granitic boulders. Similarities between the rock art in this area and rock art found in Hueco Tanks State Park to the east and at sites in Mexico provide evidence of interactions among the ancient Indigenous Peoples in the region. Elsewhere within Castner Range, evidence of occupation from approximately 250 to 1500 A.D. includes burial sites, roasting pits, a pit house, ceramics, and other artifacts. Initial investigations in another area within Castner Range have uncovered evidence of occupation between 900 B.C. and 1400 A.D., including rock art, fire pits, pottery, bedrock mortars, and lithic scatters. Additional opportunities to study these sites and potentially identify new sites will become available as closed areas are opened to researchers and Tribal Nations are consulted or otherwise engaged in relevant approval processes, providing new insights into the history of Indigenous Peoples in the area.

The area also contains the World War II-era Anti-Mechanized Target Firing Range, which was built by the Army in 1940 and is eligible for listing in the National Register of Historic Places due to its significance to military history. This firing range was used as a high-speed anti-tank weapons training course to provide soldiers with essential training in preparation for combat in World War II. Today the foundations and other remnants stand as a physical reminder of this pivotal moment in world history.

Evidence of mining that occurred before the Army's acquisition of Castner Range can be found at the El Paso Tin Mine site, which is also eligible for listing in the National Register of Historical Places and contains the remains of a tin mine briefly in operation at the turn of the 20th Century. As World War II drove a surge in the demand for tin, the mine reopened briefly in 1942, but the lack of abundant tin caused the mine to close again shortly thereafter.

Although completely contained within the city limits of El Paso, Castner Range is undeveloped due to its history of military use and, following the cessation of live fire exercises more than half a century ago, Castner Range has reverted to a state that is representative of the natural Chihuahuan ecosystem of the region. Indian Springs, Cottonwood Springs, Mundy Springs, and Whispering Springs provide sources of water and rare habitat for wildlife in this harsh desert ecosystem. The area also provides habitat for a large and diverse array of Chihuahuan Desert plants, birds, and mammals. The United States Fish and Wildlife Service has indicated that habitat is likely to exist for the American peregrine falcon, Mountain plover, Golden eagle, Texas horned lizard, black-tailed prairie dog, Baird's sparrow, Western burrowing owl, Franklin Mountains talussnail, Alamo beard tongue, Sand prickly pear, Desert night-blooming cereus, and the endangered Sneed pincushion cactus. Golden eagles and Western burrowing owls, for example, have been observed at Castner Range.

Castner Range also contains undeveloped geological resources. The Franklin Mountains and various landslide blocks along the eastern front of the mountains define the topography of the highest elevations of Castner Range. Over time, erosional events exposing the Red Bluff Granite followed by the deposition of the Bliss Sandstone have resulted in a geologic feature known as an unconformity. The Castner Limestone formation of the mid-elevation foothills is the oldest rock in the El Paso area and contains abundant, well-preserved, and ancient Precambrian fossilized algae. Two specimens were closely examined in 1958 and were identified as Oollenia frequens. It is expected that future research will identify other specimens once access becomes possible. On the desert floor of the lower elevations and emanating from Fusselman Canyon and similar mountain canyons, Castner Range contains the Franklin Mountains' only remaining undeveloped alluvial fans—broad, sloping triangular areas created when rapidly moving water descending through canyons emerges onto the desert floor and deposits eroded material.

WHEREAS, section 320301 of title 54, United States Code (the “Antiquities Act”), authorizes the President, in his discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected; and

WHEREAS, I find that Castner Range contains significant archeological and paleontological resources, rare and fragile biological and ecological resources, and unique geological features that are of scientific interest; and

WHEREAS, I find that Castner Range contains sites of cultural significance to Tribal Nations and Indigenous Peoples; and

WHEREAS, I find that Castner Range is an important part of the history of Native Americans and the United States military; and

WHEREAS, I find it is in the public interest to preserve and protect the objects of scientific and historic interest located within Castner Range; and

WHEREAS, I find that each of the objects identified above, and those of the same sort that may not be expressly identified in this proclamation, are objects of historic or scientific interest in need of protection under 54 U.S.C. 320301; and

WHEREAS, I find that there are threats to the objects identified in this proclamation and that a national monument reservation is necessary to protect the land along with its objects of historic and scientific interest within Castner Range for current and future generations; and

WHEREAS, I find that the boundaries of the monument reserved by this proclamation represent the smallest area compatible with the proper care and management of the objects of scientific or historic interest to be protected by the Antiquities Act;

NOW, THEREFORE, I, JOSEPH R. BIDEN JR., President of the United States of America, by the authority vested in me by section 320301 of title 54, United States Code, hereby proclaim the objects identified above that are situated upon lands and interests in lands owned or controlled by the Federal Government to be the Castner Range National Monument (monument) and, for the purpose of protecting those objects, reserve as part thereof all lands and interests in lands owned or controlled by the Federal Government within the boundaries described on the accompanying map, which is attached hereto and forms a part of this proclamation. These reserved Federal lands and interests in lands encompass approximately 6,672 acres.

All Federal lands and interests in lands within the boundaries of the monument are hereby appropriated and withdrawn from all forms of entry, location, selection, sale, or other disposition under the public land laws or laws applicable to the Department of the Army, including withdrawal from location, entry, and patent under the mining laws; from disposition under all laws relating to mineral, solar, and geothermal leasing; and from conveyance under section 2844 of the National Defense Authorization Act (NDAA) for Fiscal Year 2013.

The Secretary of the Army (Secretary) shall manage the monument pursuant to applicable legal authorities, including section 2846 of the NDAA for Fiscal Year 2018, and in accordance with the terms, conditions, and management direction provided by this proclamation. The Secretary shall prepare, in consultation with the Secretary of the Interior, a management plan for the monument, which shall include access for outdoor recreational opportunities as well as historic and scientific research at a time and in a manner determined by the Secretary (considering ongoing and future remediation of hazardous substances or munitions, any needed controls to ensure explosives safety, and other limitations provided in law), consistent with the proper care and management of the objects identified above. The Secretary shall promulgate such regulations for management of the monument as the Secretary deems appropriate. The Secretary shall provide for maximum public involvement in the development of the management plan, including consultation with federally recognized Tribal Nations, State and local governments, and interested stakeholders. The final decision over any management plan and regulations rests with the Secretary.

The Secretary shall expeditiously conduct military munitions response actions at Castner Range in accordance with the Comprehensive Environmental Response, Compensation, and Liability Act of 1980, as amended (42 U.S.C. 9615 et seq.), and section 2846 of the NDAA for Fiscal Year 2018, and shall conduct response actions in a phased manner that allows for public access to areas of the monument when and under the conditions necessary to protect human health and safety. Nothing in this proclamation shall affect the responsibilities and authorities of the Department of Defense under applicable environmental laws within the monument boundaries. Nothing in this proclamation shall affect the Secretary's ability to authorize access to and remediation of contaminated lands within the monument.

The Secretary shall, to the maximum extent permitted by law and in consultation with Tribal Nations, ensure the protection of sacred sites and traditional cultural properties and sites in the monument and provide access to Tribal members for traditional cultural, spiritual and customary uses, consistent with the American Indian Religious Freedom Act, 42 U.S.C. 1996, and Executive Order 13007 of May 24, 1996 (Indian Sacred Sites). Such uses shall include allowing collection of medicines, berries and other vegetation, forest products, and firewood for personal non-commercial use in a manner consistent with the proper care and management of the objects identified herein, and in consideration of the presence of military munitions and munitions constituents.

In recognition of the importance of these lands and objects to Tribal Nations, and to ensure that management decisions affecting the monument reflect Tribal expertise and Indigenous Knowledge, the Secretary shall meaningfully engage with Tribal Nations with cultural ties to the area to develop the management plan and to inform subsequent management of the monument.

The establishment of this monument is subject to valid existing rights, including valid water rights. Consistent with the proper care and management of the objects identified above, nothing in this proclamation shall be construed to preclude the renewal or assignment of, or interfere with the operation, maintenance, replacement, modification, or upgrade of, existing water infrastructure, including flood control, pipeline, or other water management infrastructure; State highway corridors rights-of-way; or existing utility and telecommunications rights-of-way or facilities within or adjacent to the boundaries of existing authorizations within the monument.

Nothing in this proclamation shall preclude low-level overflights of military aircraft, flight testing or evaluation, the designation of new units of special use airspace, or the use or establishment of military flight training routes or transportation over the lands reserved by this proclamation.

Nothing in this proclamation shall be deemed to enlarge or diminish the jurisdiction of the State of Texas with respect to fish and wildlife management. Nothing in this proclamation shall be deemed to enlarge or diminish the rights or jurisdiction of any Tribal Nation.

Nothing in this proclamation shall be construed to alter the authority or responsibility of any party with respect to emergency response activities within the monument, including wildland fire response or search and rescue operations.

Nothing in this proclamation shall be deemed to revoke any existing withdrawal, reservation, or appropriation; however, the national monument shall be the dominant reservation.

Warning is hereby given to all unauthorized persons not to appropriate, injure, destroy, or remove any feature of the monument and not to locate or settle upon any of the lands thereof.

If any provision of this proclamation, including application to a particular parcel of land, is held to be invalid, the remainder of this proclamation and its application to other parcels of land shall not be affected thereby.

IN WITNESS WHEREOF, I have hereunto set my hand this twenty-first day of March, in the year of our Lord two thousand twenty-three, and of the Independence of the United States of America the two hundred and forty-seventh.

Billing code 3395-F3-P

[FR Doc. 2023-06401

Filed 3-24-23; 8:45 a.m.]

Billing code 4310-10-C